DEPARTMENT OF JUSTICE

Notice of Lodging Proposed Consent Decree

In accordance with Departmental Policy, 28 CFR 50.7, notice is hereby given that a proposed Consent Decree in United States v. Rutherford Oil Corporation, et al., No. 3:08-cv-231, was lodged with the United States District Court for the Southern District of Texas on February 2, 2011.

This proposed Consent Decree concerns a complaint filed by the United States against Rutherford Oil Corporation, Brown Water Marine Service, Inc., Caillou Island Towing Company, Inc., Inland Marine Management Corporation, and Triple S Marine, LLC, pursuant to 33 U.S.C. 1311(a) and 33 U.S.C. 403, to obtain injunctive relief from and impose civil penalties against the Defendants for violating the Clean Water Act by discharging pollutants without a permit into waters of the United States. The proposed Consent Decree resolves these allegations by requiring the Defendants to conduct a restoration project and to pay a civil penalty. The Department of Justice will accept written comments relating to this proposed Consent Decree for thirty (30) days from the date of publication of this Notice. Please address comments to T. Monique Jones, Environmental Defense Section, United States Department of Justice, P.O. Box 23986, Washington DC 20026 and refer to United States v. Rutherford Oil Corporation, DJ # 90-5-1-1-18340.

The proposed Consent Decree may be examined at the Clerk's Office, United States District Court for the Southern District of Texas, 515 Rusk Avenue, Houston TX 77002. In addition, the proposed Consent Decree may be viewed at http://www.usdoj.gov/enrd/Consent_Decrees.html.

Maureen M. Katz,
Assistant Section Chief, Environment & Natural Resources Division.

[FR Doc. 2011-2695 Filed 2-7-11; 8:45 am]

BILLING CODE 4410-15-P